DEPARTMENT OF LABOR

Employment and Training Administration

[TA-W-53,207]

Extrasport, Inc., a Division of Johnson Outdoors, Including Leased Workers of Oasis, Inc., Miami, FL; Amended Certification Regarding Eligibility To Apply for Worker Adjustment Assistance

In accordance with section 223 of the Trade Act of 1974 (19 U.S.C. 2273) the Department of Labor issued a Certification of Eligibility to Apply for Worker Adjustment Assistance on November 10, 2003, applicable to workers of Extrasport, Inc., a division of Johnson Outdoors, Miami, Florida. The notice was published in the Federal Register on December 29, 2003 (68 FR 74979).

At the request of the State agency, the Department reviewed the certification for workers of the subject firm. New information shows that Extrasport, Inc. leased workers of Oasis, Inc. to produce personal flotation devices at the Miami, Florida location of the subject firm.

Based on these findings, the Department is amending this certification to include leased workers of Oasis, Inc. working at Extrasport, Inc., a division of Johnson Outdoors, Miami, Florida.

The intent of the Department's certification is to include all workers at Extrasport, Inc., a division of Johnson Outdoors, Miami, Florida, who were adversely affected by a shift in production to China.

The amended notice applicable to TA-W-53,207 is hereby issued as follows:

All workers of Extrasport, Inc., a division of Johnson Outdoors, Inc., Miami, Florida, and leased workers of Oasis, Inc. producing personal flotation devices at Extrasport, Inc., a division of Johnson Outdoors, Inc., Miami, Florida, who became totally or partially separated from employment on or after October 3, 2002, through November 10, 2005, are eligible to apply for adjustment assistance under section 223 of the Trade Act of 1974.

Signed at Washington, DC, this 31st day of December, 2003.
Linda G. Poole,
Certifying Officer, Division of Trade Adjustment Assistance.

[FR Doc. 04-998 Filed 1-15-04; 8:45 am]

BILLING CODE 4510-30-P